DEPARTMENT OF TRANSPORTATION

Federal Aviation Administration

Notice of Policy Regarding Runway Closures During the Winter Season

AGENCY: Federal Aviation Administration (FAA), DOT.

ACTION: Notice of Availability of proposed operational criteria, request for comments.

SUMMARY: FAA is proposing to amend Advisory Circular 150/5200-30, Airport Winter Safety and Operations, to establish new operational criteria for the closure of runways (paragraph 5-5) due to inclement weather during the winter season. The proposed operational criteria specify those events associated with winter contaminated runways that trigger airport operators to implement runway closure procedures. A subsequent requirement associated with the implementation of such closures is the timely notification of airport users and the public by issuance of a Notice to Airmen (NOTAM). To ensure that the intent of this safety initiative is attained, the airport's Snow and Ice Control Plan, required per 14 CFR Part 139, Certification of Airports, should contain a formal memorandum-of-understanding between the airport traffic control tower and the airport operator that covers at a minimum (1) that the airport traffic control tower will transmit timely needed information to the airport operator, such as, all pilot braking action reports of “POOR” and “NIL” and (2) procedures that the airport traffic control tower will follow upon the airport operator's decision to close a runway. The draft advisory circular is available for downloading at http://www.faa.gov/airports_airtraffic/airports/resources/draft_advisory_circulars/

DATES: Comments must be received before September 15, 2008.

ADDRESSES: You may send comments by any of the following methods:

E-mail: rick.marinelli@faa.gov.

Fax: 202-267-3688.

Mail: Federal Aviation Administration, Office of Airport Safety and Standards, Airport Engineering Division, AAS-100, Room 621, 800 Independence Avenue, SW., Washington, DC 20591.

FOR FURTHER INFORMATION CONTACT: George I. Legarreta, Federal Aviation Administration, Office of Airport Safety and Standards, Airport Engineering Division, AAS-100, Room 621, 800 Independence Avenue, SW., Washington, DC 20591. Telephone: 202-267-8766.

SUPPLEMENTARY INFORMATION: The aviation industry and FAA are working jointly within the Takeoff and Landing Performance Assessment Aviation Rulemaking Committee to define the various conditions associated with the necessity for a runway closure during the winter season. An expected outcome of the joint effort is issuance of a Paved Runway Safety Assessment Matrix for use by airport operators for decision making. The matrix will associate runway surface conditions, pilot braking action reports, and other secondary criteria, with the industry accepted practices of describing runway frictional qualities, namely, GOOD-MEDIUM-POOR-NIL. The FAA plans to incorporate the committee's matrix in a future revision to the above referenced advisory circular.

Issued in Washington, DC on August 14, 2008.
Rick Marinelli,
Manager, Airport Engineering Division, AAS-100.

[FR Doc. E8-19270 Filed 8-19-08; 8:45 am]

BILLING CODE 4910-13-P